DEPARTMENT OF TRANSPORTATION

National Highway Traffic Safety Administration

[Docket No. NHTSA 2005-22554; Notice 2]

Michelin North America, Inc., Grant of Petition for Decision of Inconsequential Noncompliance

Michelin North America, Inc. (Michelin) has determined that certain tires it produced in 2005 do not comply with S4.3(d) and S4.3(e) of 49 CFR 571.109, Federal Motor Vehicle Safety Standard (FMVSS) No. 109, “New pneumatic tires.” Pursuant to 49 U.S.C. 30118(d) and 30120(h), Michelin has petitioned for a determination that this noncompliance is inconsequential to motor vehicle safety and has filed an appropriate report pursuant to 49 CFR part 573, “Defect and Noncompliance Reports.” Notice of receipt of a petition was published, with a 30-day comment period, on October 3, 2005 in the Federal Register (70 FR 57645). NHTSA received no comments.

Michelin produced approximately 9,816 BFGoodrich Radial T/A tires during the period from February 20, 2005 through April 7, 2005 that do not comply with FMVSS No. 109, S4.3(d) and S4.3(e). S4.3 of FMVSS No. 109 requires that “each tire shall have permanently molded into or onto both sidewalls * * * (d) The generic name of each cord material used in the plies * * * of the tire” and “(e) Actual number of plies in the sidewall, and the actual number of plies in the tread area if different.” The noncompliant tires were marked “tread plies 2 polyester + 2 steel; sidewall plies 2 polyester + 1 nylon.” The correct marking should read “tread plies 2 polyester + 2 steel + 1 nylon; sidewall plies 2 polyester.”

Michelin believes that the noncompliance is inconsequential to motor vehicle safety and that no corrective action is warranted. Michelin stated that NHTSA has consistently found that ply labeling noncompliances are inconsequential to motor vehicle safety and has consistently granted inconsequential noncompliance petitions on that basis. Michelin also stated that all load and inflation pressure markings are present and the noncompliant tires meet or exceed all of the FMVSS No. 109 minimum performance requirements.

The Transportation Recall, Enhancement, Accountability, and Documentation (TREAD) Act (Public Law 106-414) required, among other things, that the agency initiate rulemaking to improve tire label information. In response, the agency published an Advance Notice of Proposed Rulemaking (ANPRM) in the Federal Register on December 1, 2000 (65 FR 75222).

The agency received more than 20 comments on the tire labeling information required by 49 CFR 571.109 and 119, part 567, part 574, and part 575. In addition, the agency conducted a series of focus groups, as required by the TREAD Act, to examine consumer perceptions and understanding of tire labeling. Few of the focus group participants had knowledge of tire labeling beyond the tire brand name, tire size, and tire pressure.

Based on the information obtained from comments to the ANPRM and the consumer focus groups, we have concluded that it is likely that few consumers have been influenced by the tire construction information (number of plies and cord material in the sidewall and tread plies) provided on the tire label when deciding to buy a motor vehicle or tire.

Therefore, the agency agrees with Michelin's statement that the incorrect markings in this case do not present a serious safety concern.¹ There is no effect of the noncompliance on the operational safety of vehicles on which these tires are mounted. In the agency's judgment, the incorrect labeling of the tire construction information will have an inconsequential effect on motor vehicle safety. In addition, the tires are certified to meet all the performance requirements of FMVSS No. 109 and all other informational markings as required by FMVSS No. 109 are present. Michelin has corrected the problem.

¹ This decision is limited to its specific facts. As some commenters on the ANPRM noted, the existence of steel in a tire's sidewall can be relevant to the manner in which it should be repaired or retreaded.

In consideration of the foregoing, NHTSA has decided that the petitioner has met its burden of persuasion that the noncompliance described is inconsequential to motor vehicle safety. Accordingly, Michelin's petition is granted and the petitioner is exempted from the obligation of providing notification of, and a remedy for, the noncompliance.

Authority: 49 U.S.C. 30118, 30120; delegations of authority at CFR 1.50 and 501.8.

Issued on: November 17, 2005.
Daniel C. Smith,
Associate Administrator for Enforcement.

[FR Doc. 05-23137 Filed 11-22-05; 8:45 am]

BILLING CODE 4910-59-P